DEPARTMENT OF TRANSPORTATION

Federal Aviation Administration

14 CFR Part 39

[Docket No. 2003-CE-40-AD; Amendment 39-13795; AD 2004-19-01]

RIN 2120-AA64

Airworthiness Directives; Cessna Aircraft Company 120, 140, 140A, 150, F150, 170, 172, F172, FR172, P172D, 175, 177, 180, 182, 185, A185E, 190, 195, 206, P206, U206, TP206, TU206, 207, T207, 210, T210, 336, 337, and T337 Series Airplanes

AGENCY: Federal Aviation Administration (FAA), DOT.

ACTION: Final rule; correction.

SUMMARY: This document makes a correction to Airworthiness Directive (AD) 2004-19-04, which was published in the Federal Register on September 17, 2004 (69 FR 55943), and applies to certain Cessna Aircraft Company (Cessna) 120, 140, 140A, 150, F150, 170, 172, F172, FR172, P172D, 175, 177, 180, 182, 185, A185E, 190, 195, 205, 205A, 206, P206, P206E, TP206A, TU206, TU206E, U206, U206E, 207, T207, 210, T210, 336, 337, and T337 series airplanes. We incorrectly referenced the AD number as AD 2004-19-04. The correct AD number is 2004-19-01. This action corrects the regulatory text.

DATES: The effective date of this AD remains November 1, 2004.

FOR FURTHER INFORMATION CONTACT: Gary D. Park, Aerospace Engineer, FAA, Wichita Aircraft Certification Office, 1801 Airport Road, Room 100, Mid-Continent Airport, Wichita, Kansas 67209; telephone: (316) 946-4123; facsimile: (316) 946-4107.

SUPPLEMENTARY INFORMATION:

Discussion

On September 8, 2004, FAA issued AD 2004-19-04, Amendment 39-13795 (69 FR 55943, September 17, 2004), which applies to certain Cessna 120, 140, 140A, 150, F150, 170, 172, F172, FR172, P172D, 175, 177, 180, 182, 185, A185E, 190, 195, 205, 205A, 206, P206, P206E, TP206A, TU206, TU206E, U206, U206E, 207, T207, 210, T210, 336, 337, and T337 series airplanes. This AD supersedes AD 86-26-04 with a new AD that requires you to inspect and, if necessary, modify the pilot/co-pilot upper shoulder harness adjusters that have certain Cessna accessory kits incorporated.

Need for the Correction

The FAA incorrectly referenced the AD number as 2004-19-04. The correct AD number is AD 2004-19-01. This correction is needed to ensure that the correct AD number is entered in the logbook and to eliminate misunderstanding in the field.

Correction of Publication

Accordingly, the publication of September 17, 2004 (69 FR 55943), of Amendment 39-13795; AD 2004-19-04, which was the subject of FR Doc. 04-20774, is corrected as follows:

§ 39.13 [Corrected]

On page 55945, in section 39.13 [Amended], replace 2004-19-04 with 2004-19-01.

Action is taken herein to correct this reference in AD 2004-19-04 and to add this AD correction to section 39.13 of the Federal Aviation Regulations (14 CFR 39.13).

The effective date remains November 1, 2004.

Issued in Kansas City, Missouri, on September 23, 2004.
David R. Showers,
Acting Manager, Small Airplane Directorate, Aircraft Certification Service.

[FR Doc. 04-21814 Filed 10-6-04; 8:45 am]

BILLING CODE 4910-13-P